DEPARTMENT OF COMMERCE

Bureau of Industry and Security

In the Matter of: Sihai Cheng, a/k/a Alex Cheng, a/k/a Chun Hai Cheng, Inmate Number: 96454-038, FCI Terminal Island, Federal Correctional Institution, P.O. Box 3007, San Pedro, CA 90733; Order Denying Export Privileges

On January 27, 2016, in the U.S. District Court, District of Massachusetts, Sihai Cheng, a/k/a Alex Cheng, a/k/a Chu Hai Cheng (“Cheng”) was convicted of violating the International Emergency Economic Powers Act (50 U.S.C. 1701, et seq. (2012)) (“IEEPA”). Specifically, Cheng knowingly and willfully conspired, combined and confederated and agreed with other persons known and unknown to export and cause the export of U.S. origin goods, that is, MKS pressure transducers (manometer types 722A and 722B), from the United States to the Islamic Republic of Iran without first having obtained the required licenses and authorizations from the the United States Department of Treasury, Office of Foreign Assets Control. Cheng was sentenced to nine years in prison and an assessment of $600.00.

Section 766.25 of the Export Administration Regulations (“EAR” or “Regulations”) ¹ provides, in pertinent part, that “[t]he Director of the Office of Exporter Services, in consultation with the Director of the Office of Export Enforcement, may deny the export privileges of any person who has been convicted of a violation of the Export Administration Act (“EAA”), the EAR, or any order, license or authorization issued thereunder; any regulation, license, or order issued under the International Emergency Economic Powers Act (50 U.S.C. 1701-1706); 18 U.S.C. 793, 794 or 798; section 4(b) of the Internal Security Act of 1950 (50 U.S.C. 783(b)), or section 38 of the Arms Export Control Act (22 U.S.C. 2778).” 15 CFR 766.25(a); see also Section 11(h) of the EAA, 50 U.S.C. 4610(h). The denial of export privileges under this provision may be for a period of up to 10 years from the date of the conviction. 15 CFR 766.25(d); see also 50 U.S.C. 4610(h). In addition, Section 750.8 of the Regulations states that the Bureau of Industry and Security's Office of Exporter Services may revoke any Bureau of Industry and Security (“BIS”) licenses previously issued in which the person had an interest in at the time of his conviction.

¹ 50 U.S.C. 4601-4623 (Supp. III 2015) (available at http://uscode.house.gov). Since August 21, 2001, the Act has been in lapse and the President, through Executive Order 13222 of August 17, 2001 (3 CFR, 2001 Comp. 783 (2002)), which has been extended by successive Presidential Notices, the most recent being that of August 4, 2016 (81 FR 52,587 (Aug. 8, 2016)), has continued the Regulations in effect under the International Emergency Economic Powers Act (50 U.S.C. 1701, et seq. (2012)).

BIS has received notice of Cheng's conviction for violating IEEPA, and in accordance with Section 766.25 of the Regulations, BIS has provided notice and an opportunity for Cheng to make a written submission to BIS. BIS has not received a submission from Cheng.

Based upon my review and consultations with BIS's Office of Export Enforcement, including its Director, and the facts available to BIS, I have decided to deny Cheng's export privileges under the Regulations for a period of 10 years from the date of Cheng's conviction. I have also decided to revoke all licenses issued pursuant to the Act or Regulations in which Cheng had an interest at the time of his conviction.

Accordingly, it is hereby Ordered:

First, from the date of this Order until January 27, 2026, Sihai Cheng, a/k/a Alex Cheng, a/k/a Chun Hai Cheng, with a last known address of Inmate Number: 96454-038, FCI Terminal Island, Federal Correctional Institution, P.O. Box 3007, San Pedro, CA 90733, and when acting for or on his behalf, his successors, assigns, employees, agents or representatives (the “Denied Person”), may not, directly or indirectly, participate in any way in any transaction involving any commodity, software or technology (hereinafter collectively referred to as “item”) exported or to be exported from the United States that is subject to the Regulations, including, but not limited to:

A. Applying for, obtaining, or using any license, License Exception, or export control document;

B. Carrying on negotiations concerning, or ordering, buying, receiving, using, selling, delivering, storing, disposing of, forwarding, transporting, financing, or otherwise servicing in any way, any transaction involving any item exported or to be exported from the United States that is subject to the Regulations, or in any other activity subject to the Regulations; or

C. Benefitting in any way from any transaction involving any item exported or to be exported from the United States that is subject to the Regulations, or in any other activity subject to the Regulations.

Second, no person may, directly or indirectly, do any of the following:

A. Export or reexport to or on behalf of the Denied Person any item subject to the Regulations;

B. Take any action that facilitates the acquisition or attempted acquisition by the Denied Person of the ownership, possession, or control of any item subject to the Regulations that has been or will be exported from the United States, including financing or other support activities related to a transaction whereby the Denied Person acquires or attempts to acquire such ownership, possession or control;

C. Take any action to acquire from or to facilitate the acquisition or attempted acquisition from the Denied Person of any item subject to the Regulations that has been exported from the United States;

D. Obtain from the Denied Person in the United States any item subject to the Regulations with knowledge or reason to know that the item will be, or is intended to be, exported from the United States; or

E. Engage in any transaction to service any item subject to the Regulations that has been or will be exported from the United States and which is owned, possessed or controlled by the Denied Person, or service any item, of whatever origin, that is owned, possessed or controlled by the Denied Person if such service involves the use of any item subject to the Regulations that has been or will be exported from the United States. For purposes of this paragraph, servicing means installation, maintenance, repair, modification or testing.

Third, after notice and opportunity for comment as provided in Section 766.23 of the Regulations, any other person, firm, corporation, or business organization related to Cheng by ownership, control, position of responsibility, affiliation, or other connection in the conduct of trade or business may also be made subject to the provisions of this Order in order to prevent evasion of this Order.

Fourth, in accordance with part 756 of the Regulations, Cheng may file an appeal of this Order with the Under Secretary of Commerce for Industry and Security. The appeal must be filed within 45 days from the date of this Order and must comply with the provisions of Part 756 of the Regulations.

Fifth, a copy of this Order shall be delivered to the Cheng. This Order shall be published in the Federal Register.

Sixth, this Order is effective immediately and shall remain in effect until January 27, 2026.

Dated: Issued this 31st day of March, 2017.
Hillary Hess,
Acting Director, Office of Exporter Services.

[FR Doc. 2017-06811 Filed 4-5-17; 8:45 am]

BILLING CODE P